DEPARTMENT OF DEFENSE

Office of the Secretary

Membership of the Performance Review Board

AGENCY: Department of Defense (DoD), Defense Finance and Accounting Service.

ACTION: Notice.

SUMMARY: This notice announces the appointment of the members of the Performance Review Board (PRB) of the Defense Finance and Accounting Service (DFAS). The publication of PRB membership is required by 5 U.S.C. 4314(c)(4).

The Performance Review Board (PRB) provides fair and impartial review of Senior Executive Service performance appraisals and makes recommendations regarding performance ratings and performance scores to the Deputy Secretary of Defense.

DATES: Effective Date: October 21, 2011.

FOR FURTHER INFORMATION CONTACT: Denise Thornburg, DFAS SES Program Manager, Defense Finance and Accounting Service, Arlington, Virginia, (303) 337-3288.

SUPPLEMENTARY INFORMATION: In accordance with 5 U.S.C. 4314(c)(4), the following executives are appointed to the Defense Finance and Accounting Service PRB:

Teresa McKay,

Richard Gustafson,

David McDermott,

Nancy Zmyslinski.

Executives listed will serve a one-year renewable term, effective October 21, 2011.

Dated: October 3, 2011.
Aaron Siegel,
Alternate OSD Federal Register Liaison Officer, Department of Defense.

[FR Doc. 2011-25854 Filed 10-5-11; 8:45 am]

BILLING CODE 5001-06-P